DEPARTMENT OF THE INTERIOR

National Park Service

[NPS-PWR-PWRO-17596]; [PX.PR113509L.00.1]

Draft General Management Plan/Wilderness Study/Environmental Impact Statement Hawaii Volcanoes National Park, Hawaii

AGENCY: National Park Service, Interior.

ACTION: Notice of availability.

SUMMARY: The National Park Service (NPS) has prepared a Draft Environmental Impact Statement (DEIS) for the General Management Plan (GMP) for Hawaii Volcanoes National Park (Hawaii Volcanoes NP) in the State of Hawaii. The proposed GMP also includes a wilderness study (WS) which analyzes wilderness suitability of park lands and includes a recommendation for wilderness designation. This DEIS describes and analyzes three GMP alternatives that respond to both NPS planning requirements and to public concerns and issues identified during the scoping and public involvement process. Each alternative presents management strategies for resource protection and preservation, education and interpretation, visitor use and facilities, land protection and boundaries, and long-term operations and management of Hawaii Volcanoes NP. The potential environmental consequences of all the alternatives, and mitigation strategies, are analyzed, and the “environmentally preferred” alternative is identified. The wilderness study recommends wilderness designation of lands found eligible in the Kahuku Unit. This GMP will replace the 1975 Master Plan for the park.

DATES: All written comments must be postmarked or transmitted not later than July 6, 2015 of the Environmental Protection Agency's notice of filing and release of the DEIS. Upon publication of this notice, the date will be immediately posted on the park's Web site (www.nps.gov/havo) and on the NPS Planning, Environment, and Public Comment (PEPC) Web site (http://parkplanning.nps.gov/havo), and publicized via local and regional press media.

FOR FURTHER INFORMATION CONTACT: Cindy Orlando, Superintendent, Hawaii Volcanoes National Park, P.O. Box 52, Hawaii National Park, HI 96718-0052 or via telephone at (808) 985-6026.

SUPPLEMENTARY INFORMATION:

Background

A Notice of Intent announcing preparation of the DEIS and GMP was published in the Federal Register on April 13, 2009. The NPS also publicized the public scoping period and invited public comment through newsletters, correspondence, press releases, public workshops, informal meetings, and the PEPC Web site. During the spring of 2009 the NPS produced an initial newsletter describing the start of the planning process and soliciting feedback on issues to be addressed in the plan (approximately 8,500 newsletters were distributed overall). A comprehensive scoping outreach effort elicited early public comment regarding issues and concerns, the nature and extent of potential environmental impacts, and possible alternatives that should be addressed in the preparation of the GMP. Agencies, organizations, governmental representatives, and Native Hawaiian organizations were sent letters of invitation to attend the public workshops or individual meetings. Press releases were distributed to local and regional news media. The project was launched on the PEPC Web site, providing access to information about the GMP and a method for taking public comments. News articles featuring the public open house meetings were written in the West Hawaii Today, Hawaii Tribune Herald, and the Kau Calendar, as well as public service announcements on local radio stations.

The NPS held seven public open house meetings on the islands of Hawaii, Oahu and Maui in April and May 2009 to provide the public with an opportunity to learn about the general management planning project and to offer comments. The meetings began with a brief welcome and introduction to the GMP planning process, and transitioned into an open house format where attendees could visit six stations featuring tabletop poster displays. A total of 95 people attended the meetings. The park also conducted several stakeholder meetings to obtain input from representatives of city, county, and federal agencies, business and community organizations, Native Hawaiian organizations, and research permit holders. Park staff also gave poster presentations at local meetings of the Kau Chamber of Commerce, Volcano Community Association, and Friends of Hawaii Volcanoes National Park. Altogether during the 2009 scoping phase, the park planning team spoke with approximately 400 people at public and stakeholder meetings and approximately 1,500 people at park and community tabling events. Correspondence received from over 130 individuals and organizations engendered approximately 1,250 specific comments. All comments were carefully reviewed and considered by the planning team to inform preparation of this GMP, and are preserved in the project administrative record.

Expanding the scope of the EIS was announced in the Federal Register on December 2, 2011. The EIS was expanded to include a wilderness study needed to evaluate foreseeable effects associated with possible designation of wilderness within the park. This Notice of Intent also formally extended the GMP preliminary alternatives comment period through January 2, 2012, in order to gain additional comments about wilderness and the recently evaluated wilderness-eligible lands within the Kahuku Unit.

The NPS conducted an additional round of public involvement at the draft alternatives phase of the planning process to ensure that the planning team fully comprehended the public's concerns and preferences with regard to the range of draft alternatives and to assist the planning team in refining the draft alternatives and identifying a preferred alternative. In addition, this engagement afforded opportunity for formal scoping for the wilderness study. During scoping for the wilderness study the NPS described the wilderness eligibility analysis that had been completed for the Kahuku Unit and elicited public comments specifically focused on the wilderness study.

During August 2011 the NPS produced and mailed the Draft Alternatives Newsletter to approximately 955 contacts on the GMP mailing list. The newsletter fully outlined the concepts and actions in the draft alternatives and proposed management zones, and included information on the wilderness eligibility that was completed and the wilderness study that would be included in the DEIS/GMP. The newsletter also contained a business reply questionnaire to facilitate public comments on the four draft alternatives. In addition to the planning schedule included in the Newsletter, information was distributed to local media in advance of the public meetings and articles were printed in three local papers: West Hawaii Today, Hawaii Tribune Herald, and the Kau Calendar.

The NPS held a public open house meeting and two stakeholder meetings in the park, and two additional public meetings were held in the towns of Pahoa and Naalehu. A total of 66 people participated. Overall the NPS received 72 written responses in the form of letters, emails, comment forms, and comments submitted on the PEPC Web site. A total of 709 individual comments were received. All comments received were again reviewed by the GMP planning team to inform preparation of the Draft GMP/WS. A summary of public comments on the preliminary alternatives and wilderness study was created and made available to the public in February, 2012, on the park's Web site, in PEPC, and through 830 mailers sent to the GMP project mailing list.

Proposed Plan and Alternatives

Alternative 1 (No Action Alternative)—Existing programming, facilities, staffing, and funding would generally continue at current levels to protect the values of Hawaii Volcanoes National Park. There would be no major changes in current management or visitor use. Implementation of currently approved plans would continue as funding allows. This alternative provides the baseline for evaluating actions and impacts in other alternatives.

Alternative 2 (Preferred Alternative)—Strengthens and expands opportunities to connect people with the volcanic world treasure, Hawaii Volcanoes National Park, and provide a wide range of high quality visitor experiences based on different geographic areas. Kīlauea summit would continue to be the most actively visited area of the park with the greatest concentration of services and amenities for park visitors. Along Chain of Craters Road and Mauna Loa Road, the park would strive to provide visitors with improved opportunities to experience and connect with park resources and values, including new opportunities at places like Mauna Ulu and Kealakomowaena, while dispersing use to create a less congested and more tranquil experience. At Kahuku, although visitor access and recreation opportunities would be expanded from what is currently offered, infrastructure and development would be minimal, gradually phased in over time, and remain rustic in design to allow for a primitive visitor experience.

Natural and cultural resources would continue to be managed and protected with a high degree of integrity, consistent with direction provided by existing laws and policies. The preferred alternative emphasizes the park's role as a refuge and haven for native biota, people, and cultures in a world constantly adapting to volcanic activity and island building processes. The preferred alternative would honor the Native Hawaiian people and culture by recognizing Native Hawaiian values such as malama aina (nourishing or taking care of the land) and kuleana (responsibility) and perspectives from Native Hawaiian land management such as ahupuaa management (managing land from mauka (mountains) to makai (sea) as important concepts in park stewardship of resources. Native Hawaiian traditional ecological knowledge would be used to enhance current scientific understanding to protect park resources and provide additional interpretive and educational opportunities for visitors. Alternative 2 is also considered to be the “environmentally preferred” course of action.

Alternative 3—Emphasizes building new connections with the park primarily through expanded education and hands-on stewardship opportunities. Traditional visitor opportunities would continue and capacity could be expanded at some existing sites to allow for increased visitation, but new development would be very limited and a suite of management tools would be used to disperse visitors and manage congestion throughout the park. A greater focus would be placed on science and learning opportunities for visitors from mauka (mountains) to makai (sea). The park would immerse visitors in the protection and restoration of native species and ecosystems by maximizing opportunities to participate in restoration activities and additional emphasis would be placed on providing opportunities for visitors to engage in research, scientific investigation, and projects associated with natural and cultural resources management, notably in Kahuku.

Similar to Alternative 2, natural and cultural resources would continue to be managed and protected with a high degree of integrity, consistent with direction provided by existing laws and policies. This alternative also emphasizes the park's role as a refuge and haven for native biota, people, and cultures in a world constantly adapting to volcanic activity and island building processes. This alternative would honor the Native Hawaiian people and culture, by recognizing Native Hawaiian values such as malama aina and kuleana, and perspectives from Native Hawaiian land management such as ahupuaa management (managing land from mauka to makai) as important concepts in park stewardship of resources. Native Hawaiian traditional ecological knowledge would be used to enhance current scientific understanding to protect park resources and provide additional interpretive and educational opportunities for visitors.

Actions Common to All Alternatives

Many aspects of natural and cultural resources management (such as an emphasis on restoring native ecosystems, preservation of wilderness character, and continued support for research), visitor use and experience (such as providing access to the iconic places and volcanic processes), and collaboration with partners on a variety of issues (including coastal and shoreline management) are common to all alternatives. The park would continue to operate Volcano House as a concession operation for lodging, retail, and food and beverage services in all alternatives. Guidance for Kilauea Military Camp (KMC) and use of the 1877 Volcano House should conditions change also applies to all alternatives. The park would continue to provide interpretation at the Jaggar Museum, with improved exhibits, and the Hawaiian Volcano Observatory would continue to operate adjacent to Jaggar Museum. The park would also continue to implement recently approved initiatives including: Fire Management Plan (2007), Crater Rim Drive Rehabilitation (2010), Archeological Preservation Plan for Kealakomo Ahupuaa (2011), and Protecting and Restoring Native Ecosystems by Managing Non-native Ungulates (2013).

Flexibility in managing Hawaii Volcanoes National Park is necessary given the park is situated between two active volcanoes, and volcanic eruptions are possible at any time. Park management is influenced by the magnitude of individual events. Rather than provide specific recommendations in the GMP for how the park may respond to a given event, the planning team has developed some general “adaptive management” guidance for managers facing volcanic activity in the future, notably with respect to facilities and infrastructure in the park. This guidance is also common to all alternatives.

Finally, in 1989 a 5.5 mile segment of the historic Chain of Craters Road through the park towards Kalapana and Pahoa was buried by lava flows. Due to a change in the direction of other lava flows above this area, in 2014 the remaining access to the Pahoa area became threatened. Consequently, an unpaved emergency access route was constructed following the historic road alignment. This route is for emergency access only, in the event of access to Pahoa being cut off. Under all of the alternatives, when this route is no longer needed for emergency access, it would be used as an equestrian, biking, and hiking trail (similar in character and functionality to the Escape Road from the summit to Mauna Ulu) to provide a quality non-motorized visitor use opportunity and future emergency route without compromising natural values and avoiding the management complexity of managing a new coastal entrance to the park.

Wilderness Study

The NPS proposes wilderness designation of certain lands found eligible in the Kahuku Unit (121,015 acres) as a natural extension of the existing wilderness within the park. This proposed designation would further a conservation vision for high-elevation protection of natural and cultural resources and would create connectivity for park wilderness that would span from the summit of Mauna Loa Volcano all the way down its massive Southwest Rift. This rugged and remote environment offers outstanding opportunities for solitude and potential for high-challenge recreational hiking. Nearly all of this mauka area of Kahuku is a place where the imprint of humans is scarcely noticeable, overpowered by the vast lava expanse and aura of wildness. Consistent with NPS policy, the park would continue to manage these proposed eligible lands for their wilderness qualities prior to formal designation.

Public Review and Comment: A limited number of printed copies of the Draft GMP/WS/EIS are available for review at local public libraries, and by request to the park (address below). The document is also available on the GMP project Web site. Comments are encouraged to be submitted electronically at http://parkplanning.nps.gov/havo. The postage paid comment response form included in the Draft General Management Plan/Wilderness Study/EIS Newsletter #4 may be used (additional pages can be attached as necessary). Written comments can be mailed to: Superintendent, Hawaii Volcanoes National Park, P.O. Box 52, Hawaii National Park, HI 96718-0052. Comments may also be submitted at one of the open house meetings to be conducted by the NPS—complete details including dates, time, and locations will be posted on the GMP Web site (and announced via local and regional press media). In addition, a formal hearing on the wilderness study will also be held in conjunction with one of the open house meetings. The hearing will occur not later than two weeks before the conclusion of the 60 day public review and comment period.

Before including your address, phone number, email address, or other personal identifying information in your comment, you should be aware that your entire comment—including your personal identifying information—may be made publicly available at any time. While you can ask us in your comment to withhold your personal identifying information from public review, we cannot guarantee that we will be able to do so.

Decision Process: Following the 60 day opportunity for public review of the DEIS/WS/GMP, all comments received will be carefully considered in preparing the final document. The FEIS document is anticipated to be completed during the fall of 2015 and its availability will be announced in the Federal Register and via local and regional press media. As a delegated EIS, the official responsible for the final decision is the Regional Director, Pacific West Region; subsequently the official responsible for implementation will be the Superintendent, Hawaii Volcanoes National Park.

Dated: February 2, 2015.
Christine S. Lehnertz,
Regional Director, Pacific West Region.

[FR Doc. 2015-10528 Filed 5-5-15; 8:45 am]

BILLING CODE 4312-FF-P